FEDERAL COMMUNICATIONS COMMISSION

47 CFR Part 73

[DA 04-782, MM Docket No. 01-293, RM-10302, RM-10547]

Radio Broadcasting Services; Apache, Ardmore, Bennington, OK; Bonham, Bridgeport, TX; Cache, OK; Crowell, TX; Elk City, Lawton, OK; Palestine, Ranger, Stephenville, Wellington, TX

AGENCY: Federal Communications Commission.

ACTION: Final rule.

SUMMARY: This document grants a counterproposal to upgrade Station KBOC(FM), Bridgeport, TX, from Channel 252A to Channel 252C0. To accommodate this upgrade, six other changes to the FM Table of Allotments are being made. The document also dismisses a mutually exclusive proposal to allot Channel 250C3 at Crowell, TX, and approves a settlement agreement between the parties. See 66 FR 53755, October 24, 2001. See also SUPPLEMENTARY INFORMATION.

DATES: Effective May 10, 2004.

FOR FURTHER INFORMATION CONTACT: Andrew J. Rhodes, Media Bureau, (202) 418-2180.

SUPPLEMENTARY INFORMATION: This is a synopsis of the Commission's Report and Order, MM Docket 01-293, adopted March 24, 2004, and released March 26, 2004. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

The reference coordinates for Channel 250C0 at Bridgeport, TX, are 33-26-13 and 97-29-05. To accommodate this upgraded allotment, the document (1) reallots and changes the community of license for Station KCUB(FM) from Channel 252A at Stephenville, TX, to Channel 253A at Ranger, TX, at reference coordinates 32-22-55 and 98-45-55; (2) downgrades Station KYYK(FM), Palestine, TX, from Channel 252C2 to Channel 252C3 at reference coordinates 31-46-17 and 95-37-54; (3) downgrades, reallots, and changes the community of license for Station KFYZ(FM) from Channel 252C3 at Bonham, TX, to Channel 251A at Bennington, OK, at reference coordinates 34-04-00 and 95-59-52; (4) reallots and changes the community of license for Station KACO(FM) from Channel 253C3 at Ardmore, OK, to Channel 253C3 at Apache, OK, at reference coordinates 34-53-34 and 98-14-01; (5) downgrades Station KTIJ(FM), Elk City, OK, from Channel 253C to Channel 295C1 at reference coordinates 35-15-36 and 99-33-08; and (6) substitutes Channel 253C3 for vacant Channel 298C3 at Wellington, TX, at reference coordinates 34-49-13 and 100-14-29. The FM Table of Allotments currently lists Channel 253A at Ardmore, Oklahoma. In 1997, the Audio Division granted Station KACO(FM) a construction permit to specify operation on Channel 253C3 in lieu of Channel 253A, BMPH-970307IC, to which a license was granted to cover this construction permit in 1998, BPH-19971010KI.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Apache, Channel 253C3, by removing Channel 253A at Ardmore, by adding Bennington, Channel 251A, by adding Cache, Channel 250A, by removing Channel 253C and adding Channel 295C1 at Elk City, and by removing Channel 251C1 at Lawton.

3. Section 73.202(b), the Table of FM Allotments under Texas, is amended by removing Bonham, Channel 252C3, by removing Channel 252A and adding Channel 252C0 at Bridgeport, by removing Channel 252C2 and adding Channel 252C3 at Palestine, by adding Ranger, Channel 253A, by removing Stephenville, Channel 252A, and by removing Channel 298C3 and adding Channel 253C3 at Wellington.

Federal Communications Commission.
John A. Karousos,
Assistant Chief, Audio Division, Media Bureau.

[FR Doc. 04-8330 Filed 4-12-04; 8:45 am]

BILLING CODE 6712-01-P